DEPARTMENT OF COMMERCE

National Oceanic and Atmospheric Administration

RIN 0648-XRO1

Fisheries off West Coast States; Pacific Coast Groundfish Fishery; Trawl Rationalization Program

AGENCY: National Marine Fisheries Service (NMFS), National Oceanic and Atmospheric Administration (NOAA), Commerce.

ACTION: Notice of public workshop.

SUMMARY: NMFS announces a workshop to solicit feedback from owners and managers of shoreside processors that intend to take delivery of trawl-caught groundfish under the proposed Trawl Rationalization Program. We are interested in feedback concerning proposed regulations to improve catch monitoring and accounting in the trawl fisheries. Specifically, we seek feedback into proposed requirements for catch weighing, and the development of Catch Monitoring and Control Plans (CMCPs) that shoreside processors would be required to submit and conduct operations under. The workshop is open to the public, but NMFS is particularly seeking participation by people who are knowledgeable about the operations of shoreside processors that intend to participate in the rationalized trawl fishery.

DATES: The public workshops will be held on March 26, 2010, at 10 a.m. in Astoria Oregon; at 10 a.m. in Newport Oregon; and on April 1, 2010, at 10 a.m. in Eureka.

ADDRESSES: The Astoria Oregon workshop will be held at the Holiday Inn Express, 204 W Marine Drive. The Newport Oregon workshop will be held at the Guinn Library, Hartfield Marine Science Center, 2020 Southeast Marine Science Drive. The Eureka California workshop will be held at the Humboldt Bay Aquatic Center, 921 Waterfront Drive.

FOR FURTHER INFORMATION CONTACT: Lori Jesse, 503-230-5429.

SUPPLEMENTARY INFORMATION: The Pacific Fishery Management Council (Council) has been developing a trawl rationalization program that would affect the limited entry trawl fishery of the Pacific Coast groundfish fishery. The Council has developed a trawl rationalization program through two amendments to the Pacific Coast Groundfish Management Plan (FMP). Amendment 20 which would create the structure and management details of the program; and Amendment 21 which would allocate the groundfish stocks between trawl and non-trawl fisheries.

As part of the rationalization process, NMFS is proposing new regulations concerning the monitoring of catch at shoreside processors taking deliveries of trawl groundfish. These proposed regulations are similar to regulations currently required for processors that take deliveries from rationalized fisheries off Alaska (Bering Sea and Alleutian Islands pollock, Gulf of Alaska rockfish). These regulations can be found at 50 CFR 679.28(g). Similar regulations also apply to processors taking deliveries under the crab rationalization program at 50 CFR 680.23(g).

In brief these regulations require shoreside processors to write and submit a CMCP that details how the processor will ensure that all catch is sorted and weighed to species; how that process can be monitored by NMFS-authorized personnel; and how the processor will test scales used to weigh catch. The CMCP also requires that processors give a list of the specific scales that will be used for weighing catch, their type, location and serial numbers. All scales used to weigh catch must be approved by the State and produce a printed record of the amount of catch weighed.

The CMCP regulations used in Alaska are based on a series of performance standards and they provide a great deal of flexibility for processors of a wide variety of sizes. However, these regulations will require some degree of modification for west coast processors. At this time, NMFS staff has not finalized draft regulations. However, draft proposed regulations will be made available at the time of each workshop.

NMFS seeks input into these proposed regulations from those with knowledge of trawl-groundfish processor operations, including plant owners, managers, and staff; and vendors or manufacturers of scales currently used in processing facilities. In order to better understand operations and issues associated with individual processors, NMFS staff will be available to tour individual processors following each workshop.

Special Accommodations

The workshops will be physically accessible to people with disabilities. Requests for sign language interpretation or other auxiliary aids should be directed to Murray Bauer, 541-867-0580, at least 5 working days prior to the meeting date.

Dated: March 15, 2010.
Tracey L. Thompson,
Acting Director, Office of Sustainable Fisheries, National Marine Fisheries Service.

[FR Doc. 2010-5922 Filed 3-17-10; 8:45 am]

BILLING CODE 3510-22-S